DEPARTMENT OF THE INTERIOR

Bureau of Land Management

[LLNVC02000 L57000000.BX0000; 241A; MO#4500119602]

Notice of Temporary Closures of Public Land in Washoe County, Nevada

AGENCY: Bureau of Land Management, Interior.

ACTION: Notice.

SUMMARY: As authorized under the provisions of the Federal Land Policy and Management Act (FLPMA) of 1976, certain public land near Stead, Nevada, will be temporarily closed to all public use to provide for public safety during the 2018 Reno Air Racing Association Racing Seminar and the Reno National Championship Air Races.

DATES: The temporary closure period is September 8 through September 16, 2018.

FOR FURTHER INFORMATION CONTACT: Bryant Smith, telephone: 775-885-6000, email: b6smith@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: This temporary closure applies to all public use, including pedestrian use and vehicles. The public lands affected by this temporary closure are described as follows:

Mount Diablo Meridian, Nevada

T. 21 N, R. 19 E,

Sec. 8, E½NE¼, NW¼NE¼, and E½SE¼;

Sec. 16, SW¼SW¼NE¼, NW¼, and W½SE¼.

The areas described aggregate 450 acres in Washoe County, Nevada.

The temporary closure notice and map of the closure area will be posted at the BLM Nevada State Office, 1340 Financial Boulevard, Nevada and on the BLM website: https://www.blm.gov. BLM law enforcement, in coordination with the Washoe County Sheriff's Office, will provide notification to the public of the temporary closure during the scheduled events. Under the authority of Section 303(a) of the FLPMA, 43 CFR 8360.0-7 and 43 CFR 8364.1, the Bureau of Land Management will enforce the following rules in the area described above. All public use, whether motorized, on foot, or otherwise, is prohibited.

Exceptions: The temporary closure restrictions do not apply to event officials, medical and rescue personnel, law enforcement, and agency personnel monitoring the events.

Penalties: Any person who violates this temporary closure may be tried before a United States Magistrate and fined in accordance with 18 U.S.C. 3571, imprisoned no more than 12 months under 43 U.S.C. 1733(a) and 43 CFR 8360.0-7, or both. In accordance with 43 CFR 8365.1-7, State or local officials may also impose penalties for violations of Nevada law.

Authority: 43 CFR 8360.0-7 and 8364.1.

Paul Fuselier,
Acting Field Manager, Sierra Front Field Office.

[FR Doc. 2018-16384 Filed 7-31-18; 8:45 am]

BILLING CODE 4310-HC-P